DEPARTMENT OF EDUCATION

[CFDA Nos.: 84.320A, 84.321A, and 84.322A]

Alaska Native Education Programs

AGENCY: Department of Education, Office of Elementary and Secondary Education—Alaska Native Education Programs.

ACTION: Notice inviting applications for new awards for fiscal year (FY) 2000.

SUMMARY: The Secretary invites applications for new awards for FY 2000 under three direct grant programs for Alaska Natives, and announces deadline dates for receipt of applications under these programs.

Applications Available: January 19, 2000.

Deadline for Receipt of Applications: March 20, 2000.

Note: The Department must receive all applications on or before this date. This requirement takes exception to the Education Department General Administrative Regulations (EDGAR), 34 CFR 75.102. Under the Administrative Procedure Act (5 U.S.C. 553), the Department generally offers interested parties the opportunity to comment on proposed regulations. However, this exception to EDGAR makes procedural changes only and does not establish new substantive policy. Therefore, under 5 U.S.C. 553(b)(A), the Assistant Secretary for Elementary and Secondary Education has determined that proposed rulemaking is not required.

Deadline for Intergovernmental Review: May 18, 2000.

Estimated Available Funds: Up to $11 million.

Note: The Department is conducting a single competition for projects under all three programs described in this notice. These funds will be allocated among the highest-quality applications received. Applicants must submit a separate application for each program for which they wish to apply.

Estimated Range of Awards: $50,000 to $750,000 per year.

Estimated Average Size of Awards: $366,667.

Estimated Number of Awards: 30.

Project Period for all Programs: Up to 36 months.

Note: The Department is not bound by any estimates in this notice. Funding estimates are for the first year of the project period only. Funding for the second and third years is subject to the availability of funds and the approval of continuation awards (34 CFR 75.253).

84.320A—Alaska Native Educational Planning, Curriculum Development, Teacher Training and Recruitment Program

Purpose of Program: To support projects that recognize and address the unique educational needs of Alaska Native students through consolidation, development, and implementation of educational plans and strategies to improve schooling for Alaska Natives, development of curricula, and the training and recruitment of teachers. This program is authorized under section 9304 of the Elementary and Secondary Education Act.

Eligible Applicants: Alaska Native organizations or educational entities with experience in developing or operating Alaska Native programs or programs of instruction conducted in Alaska Native languages, or partnerships involving Alaska Native organizations.

Program Authority: 20 U.S.C. 7934.

84.321A—Alaska Native Home-Based Education For Preschool Children

Purpose of Program: To support home instruction programs for preschool Alaska Native children that develop parents as educators for their children and ensure the active involvement of parents in the education of their children from the earliest ages. This program is authorized under section 9305 of the Elementary and Secondary Education Act.

Eligible Applicants: Alaska Native organizations or educational entities with experience in developing or operating Alaska Native programs, or partnerships involving Alaska Native organizations.

Program Authority: 20 U.S.C. 7935.

84.322A—Alaska Native Student Enrichment Programs

Purpose of Program: To support projects that provide enrichment programs and family support services for Alaska Native students from rural areas who are preparing to enter village high schools, so that they may excel in science and mathematics. This program is authorized by section 9306 of the Elementary and Secondary Education Act.

Eligible Applicants: Alaska Native educational organizations or educational entities with experience in developing or operating Alaska Native programs, or partnerships including Alaska Native organizations.

Program Authority: 20 U.S.C. 7936.

Selection Criteria: The Secretary uses the selection criteria published in 34 CFR 75.209 and 75.210 to evaluate applications for the Alaska Native Educational Planning, Curriculum Development, Teacher Training and Recruitment Program; the Alaska Native Home-Based Education for Preschool Children Program; and the Alaska Native Student Enrichment Programs. The application package includes the selection criteria and the points assigned to each criterion.

Applicable Regulations: EDGAR in 34 CFR Parts 74, 75, 77, 80, 81, 82, 85, and 86.

For Applications and Information Contact: Mrs. Lynn Thomas, U.S. Department of Education, 400 Maryland Avenue, SW., FOB6, Room 3C124, Mail Stop 6140, Washington, DC 20202. Telephone: (202) 260-1541; FAX: (202) 205-5630. The e-mail address for Mrs. Thomas is: Lynn Thomas@ ed.gov

Individuals who use a telecommunications device for the deaf (TDD) may call the Federal Information Relay Service (FIRS) at 1-800-877-8339.

Individuals with disabilities may obtain this document in an alternate format (e.g., Braille, large print, audiotape, or computer diskette) on request to the contact person listed in the preceding paragraph.

Individuals with disabilities may obtain a copy of the application package in an alternate format, also, by contacting that person. However, the Department is not able to reproduce in an alternate format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have any questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov./nara/index.html

Dated: January 13, 2000.
Michael Cohen,
Assistant Secretary for Elementary and Secondary Education.

[FR Doc. 00-1165 Filed 1-18-00; 8:45 am]

BILLING CODE 4000-01-P